ENVIRONMENTAL PROTECTION AGENCY

[FRL -6711-6]

Science Advisory Board; Notification of Public Advisory Committee Meeting

Pursuant to the Federal Advisory Committee Act, Public Law 92-463, notice is hereby given that a committee of the US EPA Science Advisory Board (SAB) will meet on the date and times noted below. All times noted are Eastern Daylight Time. The meeting is open to the public, however, seating is limited and available on a first come basis. Important Notice: Documents that are the subject of SAB reviews are normally available from the originating EPA office and are not available from the SAB Office—information concerning availability of documents from the relevant Program Office is included below.

1. Ecological Processes and Effects Committee (EPEC)—June 19, 2000

The Ecological Processes and Effects Committee of the US EPA Science Advisory Board (SAB), will hold a public teleconference call on June 19, 2000 from 1 pm—3 pm Eastern Daylight Time.

Purpose of the Meeting—The purpose of the meeting is for the Committee to continue work on a self-initiated project to offer advice to the Agency on the content and design of an ecological report card. The Committee met on April 25-26, 2000 to discuss a proposed conceptual framework for reporting on ecological condition, and will meet in Washington, DC on September 20-22, 2000 to apply the framework to several Agency examples or programs. The June 19 teleconference call will provide an opportunity for Committee members to discuss the materials they are drafting to describe the conceptual framework. The Committee may also receive briefings from Agency staff on EPA activities relating to ecological indicators, and may discuss programs/projects that may be suitable case examples for the September EPEC meeting. The output of the Committee deliberations, following the September meeting, is expected to be a report to the Agency describing a proposed framework, with illustrative case examples relevant to EPA programs.

For Further Information—Instructions about how to participate in the teleconference call may be obtained by contacting Ms. Mary Winston, Management Assistant to the Committee, the week prior to the meeting (no later than June 14) at (202) 564-4538 or via e-mail at winston.mary@epa.gov. For additional information on the project, contact Ms. Stephanie Sanzone, Designated Federal Officer, at (202) 564-4561 or via e-mail at sanzone.stephanie@epa.mail. Any member of the public wishing to submit brief oral comments (5 minutes or less) must contact Ms. Sanzone at Science Advisory Board (1400A), U.S. Environmental Protection Agency, 1200 Pennsylvania Avenue, NW, Washington, DC 20460; telephone (202) 564-4561; FAX (202) 501-0582; or via e-mail. Requests for oral comments must be in writing (e-mail, fax or mail) and received by Ms. Sanzone no later than noon Eastern Daylight Time on June 12, 2000.

Providing Oral or Written Comments At SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at SAB meetings, including wheelchair access to the conference room, should contact the DFO at least five business days prior to the meeting so that appropriate arrangements can be made.

Dated: June 1, 2000.
Donald G. Barnes,
Staff Director, Science Advisory Board.

[FR Doc. 00-14490 Filed 6-7-00; 8:45 am]

BILLING CODE 6560-50-U